ENVIRONMENTAL PROTECTION AGENCY

[FRL-7172-3]

Agency Information Collection Activities: Proposed Collection; Comment Request; Risk Management Program Requirements and Petitions To Modify the List of Regulated Substances under Section 112(r) of the Clean Air Act (CAA)

AGENCY: Environmental Protection Agency (EPA).

ACTION: Notice.

SUMMARY: In compliance with the Paperwork Reduction Act (44 U.S.C. 3501 et seq.), this document announces that EPA is planning to submit the following continuing Information Collection Request (ICR) to the Office of Management and Budget (OMB): Risk Management Program Requirements and Petitions to Modify the List of Regulated Substances under section 112(r) of the Clean Air Act (CAA), EPA ICR Number 1656.09, OMB Control Number 2050-0144, expiring September 30, 2002. Before submitting the ICR to OMB for review and approval, EPA is soliciting comments on specific aspects of the proposed information collection as described below.

DATES: Comments must be submitted on or before June 17, 2002.

ADDRESSES: Chemical Emergency Preparedness and Prevention Office, Mailcode 5104A, U.S. EPA, 1200 Pennsylvania Avenue NW, Washington DC 20004. Interested persons may obtain a copy of the ICR without charge by contacting the person in FOR FURTHER INFORMATION CONTACT section.

FOR FURTHER INFORMATION CONTACT: Sicy Jacob, 202-564-8019, fax no. 202-564-8233, or e-mail: jacob.sicy@epamail.epa.gov.

SUPPLEMENTARY INFORMATION: Affected entities: Entities potentially affected by this action are those stationary sources that have more than a threshold quantity of a regulated substance in a process. Entities more likely to be affected by this action may include chemical and non-chemical manufacturers, petroleum refineries, utilities, federal sources, etc.

Title: Risk Management Program Requirements and Petitions to Modify the List of Regulated Substances under section 112(r) of the Clean Air Act (CAA), EPA ICR No. 1656.09, OMB Control No. 2050-0144 expiring 09/30/02 .

Abstract: This information collection request (ICR) addresses the following information requirements: (1) Documenting sources risk management programs and submitting a source risk management plan (RMP) under CAA section 112(r)(7). The regulations include requirements for covered sources to implement and maintain documentation for a risk management program and submit an RMP (including information on a source's hazard assessment, prevention program, and emergency response program) to EPA. (2) Collecting and submitting information to support petitions to modify the list of regulated substances under CAA section 112(r)(3). The regulations include requirements for a petitioner to submit sufficient information in support of a petition to scientifically support the request to add or delete a chemical from the list of regulated substances. The Agency will use this information in making the decision to grant or deny a petition. EPA developed and promulgated these regulations through several rulemakings. The rules are codified in 40 CFR part 68.

An agency may not conduct or sponsor, and a person is not required to respond to, a collection of information unless it displays a currently valid OMB control number. The OMB control numbers for EPA's regulations are listed in 40 CFR part 9 and 48 CFR chapter 15.

The EPA would like to solicit comments to:

(i) Evaluate whether the proposed collection of information is necessary for the proper performance of the functions of the agency, including whether the information will have practical utility;

(ii) evaluate the accuracy of the agency's estimate of the burden of the proposed collection of information, including the validity of the methodology and assumptions used;

(iii) enhance the quality, utility, and clarity of the information to be collected; and

(iv) minimize the burden of the collection of information on those who are to respond, including through the use of appropriate automated electronic, mechanical, or other technological collection techniques or other forms of information technology, e.g., permitting electronic submission of responses.

Burden Statement: The estimates of the universe used in the previous ICRs have been revised to reflect the actual number of RMPs submitted to EPA, adjusted for non-compliance based on reports from the EPA Regions and state implementing agencies. As a result, there has been a decrease in the estimate of the number of facilities subject to these requirements to about 16,635 respondents. Because of the schedule for certain activities established in Part 68, some costs occur in the three-year time period covered by this ICR did not occur during the previous three-year period. Most sources will have to revise their RMPs and update their process hazard analyses, hazard reviews, and offsite consequence anaylses in 2004, five years after submitting their initial RMPs. Consequently, the record keeping and reporting costs for Part 68 fluctuate considerably from ICR to ICR.

The public reporting burden will depend on the regulatory program tier into which sources are categorized. In this ICR, EPA estimates that only certain entities will be newly subject to the RMP during the three years covered by this ICR. For these newly affected sources, the public reporting burden for rule familiarization, is estimated to be 35 hours per source and 11 hours for other initial compliance. The respondent to prepare and submit an RMP is estimated to take 5.0 hours for retailers to 28 hours for complex chemical manufacturers. The respondent burden to maintain on-site documentation is estimated to range from 4.5 hours for retailers to 355 hours for complex chemical manufacturers. The reporting burden for CBI claims is estimated to be 9.5 hours for certain chemical manufacturing sources. The total respondent burden to become familiar with the rule, complete and submit (or revise) the risk management plan, maintain on-site documentation, and substantiate claims for confidential business information is estimated to be about 273,000 hours over three years, or an annual burden of 91,000 hours. The three-year burden estimated for 15 states that may be implementing Part 68 program is 18,480 hours, or an annual burden of 6,160 hours. Therefore, the total burden for all sources and states is estimated to be 291,480 hours for three years, or an annual burden of 97,160 hours.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: April 10, 2002.
David Speight,
Acting Director, Chemical Emergency Preparedness and Prevention Office.

[FR Doc. 02-9217 Filed 4-15-02; 8:45 am]

BILLING CODE 6560-50-P